Title 3—

The President

Proclamation 9242 of March 24, 2015

Greek Independence Day: A National Day of Celebration of Greek and American Democracy, 2015

By the President of the United States of America

A Proclamation

Since the dawn of our Nation, the United States and Greece have shared a bond forged through common struggle and deeply rooted in mutual beliefs. Greek principles guided our Founders as they declared America's independence, and nearly half a century later, as Greek revolutionaries fought to throw off the yoke of an empire, they renewed the creed that unites free people everywhere: ordinary citizens can govern themselves. Today, we celebrate the Hellenic spirit that has inspired our two great nations — separated by an ocean but linked by a shared destiny written not for us, but by us.

It was the democratic example of ancient Greece from which the founding generation of Americans drew strength. In our Nation's earliest days, we sought wisdom from Greek history and philosophy, and we found hope within the pages of timeless Greek texts. Mindful of the lessons of the Hellenic story, courageous patriots undertook a bold experiment, securing the blessings of liberty and laying the foundation for more than two centuries of progress.

But even in the cradle of democracy, the promise of freedom was not preordained. More than 2,000 years after the values of self-determination first found expression in a small group of Hellenic city-states, the Greek people stood up against tyranny and sacrificed to restore democracy to its birthplace. They met brutal hardship with unbreakable character, drew inspiration from America's revolution, and never lost faith in the ideals Greece has always represented.

As Americans and Greeks, we are heirs to a long legacy of hard-won freedom and justice — values which we must not only preserve, but renew and refresh in our own time. Generations of Greek Americans have enriched the United States and strengthened our communities. Their heritage and vibrant culture are reflected in our story of achievement and constant striving; their voices are among the chorus of citizens who have driven this country inexorably forward. Today, as Greece works to lay a foundation for long-term prosperity, our Nation continues to support our friend and NATO ally and to help the Greek people reach for the future so many have sought — one where all women and men are free to pursue their dreams, realize their potential, and secure a brighter tomorrow for their children.

Together, we continue the righteous task of perfecting our two nations. On the 194th anniversary of Greek independence, let us celebrate the enduring ties between our peoples and stand with those around the world who long for liberty and the chance to join in the noble work of building a democracy.

NOW, THEREFORE, I, BARACK OBAMA, President of the United States of America, by virtue of the authority vested in me by the Constitution and the laws of the United States, do hereby proclaim March 25, 2015, as Greek Independence Day: A National Day of Celebration of Greek and American Democracy. I call upon the people of the United States to observe this day with appropriate ceremonies and activities.

IN WITNESS WHEREOF, I have hereunto set my hand this twenty-fourth day of March, in the year of our Lord two thousand fifteen, and of the Independence of the United States of America the two hundred and thirty-ninth.

[FR Doc. 2015-07242

Filed 3-26-15; 8:45 am]

Billing code 3295-F5